DEPARTMENT OF THE INTERIOR

Office of Surface Mining Reclamation and Enforcement

30 CFR Part 950

[SATS No WY-041-FOR; Docket ID OSM-2011-0020]

Wyoming Regulatory Program

AGENCY: Office of Surface Mining Reclamation and Enforcement, Interior.

ACTION: Proposed rule; withdrawal.

SUMMARY: We, the Office of Surface Mining Reclamation and Enforcement (OSM), are announcing the withdrawal of a proposed rule pertaining to an amendment to the Wyoming regulatory program (the Wyoming program) and its coal rules and regulations. Wyoming submitted the amendment to address required ownership and control rule changes that OSM identified in a letter to Wyoming dated October 2, 2009, under 30 CFR 732.17(c), and four deficiencies that were identified by OSM during the review of a previous program amendment (WY-038-FOR; Docket ID #OSM-2009-0012).

DATES: The proposed rule published December 23, 2011, at 76 FR 80310, is withdrawn June 12, 2012.

FOR FURTHER INFORMATION CONTACT: Jeffrey Fleischman, Director, Casper Field Office, Office of Surface Mining Reclamation and Enforcement, Dick Cheney Federal Building, POB 11018, 150 East B Street, Casper, Wyoming 82601-1018; Telephone: 307-261-6550, email address: jfleischman@osmre.gov.

SUPPLEMENTARY INFORMATION:

I. Background on the Wyoming Program

II. Submission of the Withdrawal

I. Background on the Wyoming Program

Section 503(a) of the Act permits a State to assume primacy for the regulation of surface coal mining and reclamation operations on non-Federal and non-Indian lands within its borders by demonstrating that its State program includes, among other things, “a State law which provides for the regulation of surface coal mining and reclamation operations in accordance with the requirements of this Act * * *; and rules and regulations consistent with regulations issued by the Secretary pursuant to this Act.” See 30 U.S.C. 1253(a) (1) and (7). On the basis of these criteria, the Secretary of the Interior conditionally approved the Wyoming program on November 26, 1980. You can find background information on the Wyoming program, including the Secretary's findings, the disposition of comments, and the conditions of approval of the Wyoming program in the November 26, 1980, Federal Register (45 FR 78637). You can also find later actions concerning Wyoming's program and program amendments at 30 CFR 950.12, 950.15, 950.16, and 950.20.

II. Submission of the Withdrawal

By letter dated October 24, 2011, Wyoming sent us a proposed amendment to its approved regulatory program (Administrative Record Docket ID No. OSM-2011-0020) under SMCRA (30 U.S.C. 1201 et seq.). Wyoming submitted the amendment to address required rule changes OSM identified in a letter to Wyoming dated October 2, 2009, under 30 CFR 732.17(c) (“732 letter”). These included changes to Wyoming's rules for ownership and control. Wyoming also submitted the amendment to address four deficiencies that OSM identified in response to Wyoming's formally submitted revegetation rule package (WY-038-FOR; Docket ID #OSM-2009-0012) and correct numerous inaccurate citations to other sections of Wyoming's rules and regulations.

We announced receipt of the proposed amendment in the December 23, 2011, Federal Register (76 FR 80310). In the same document, we opened the public comment period and provided an opportunity for a public hearing or meeting on the amendment's adequacy (Administrative Record Document ID No. OSM-2011-0020-0001). We did not hold a public hearing or meeting because no one requested one. The public comment period ended on January 23, 2012. We received comments from three Federal agencies (Mine Safety and Health Administration, USDA Forest Service, U.S. Geological Survey) and one State agency (Wyoming Game and Fish Department). In a letter dated March 16, 2012, Wyoming notified us that it was withdrawing the proposed amendment at this time so that it can draft additional rule language to address the issues in the October 2, 2009, 732 letter and resubmit the amendment by January of 2013. The required rule changes identified by OSM in the October 2, 2009, 732 letter to Wyoming remain effective.

List of Subjects in 30 CFR Part 950

Intergovernmental relations, Surface mining, Underground mining.

Dated: April 20, 2012.
Allen D. Klein,
Regional Director, Western Region.

[FR Doc. 2012-14314 Filed 6-11-12; 8:45 am]

BILLING CODE 4310-05-P